DEPARTMENT OF TRANSPORTATION

Federal Railroad Administration

[Docket No. FRA-2023-0002-N-17]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before September 19, 2023.

ADDRESSES: Written comments and recommendations for the proposed ICR should be submitted on regulations.gov to the docket, Docket No. FRA-2023-0002. All comments received will be posted without change to the docket, including any personal information provided. Please refer to the assigned OMB control number (2130-NEW) in any correspondence submitted. FRA will summarize comments received in response to this notice in a subsequent notice and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) reduce reporting burdens; (2) organize information collection requirements in a “user-friendly” format to improve the use of such information; and (3) accurately assess the resources expended to retrieve and produce the information requested. See 44 U.S.C. 3501.

The summary below describes the ICR that FRA will submit for OMB clearance as the PRA requires:

Title: Class I Freight-Train Length Reporting.

OMB Control Number: 2130-NEW.

Abstract: On May 2, 2023, FRA issued Safety Advisory 2023-03, “Accident Mitigation and Train Length,” (Safety Advisory) to ensure railroads and railroad employees are aware of the potential complexities associated with operating longer trains and to recommend that they take appropriate measures to address those complexities to ensure the safe operation of such trains.¹ The Safety Advisory cited three significant incidents that occurred since 2022 involving trains with more than 200 cars, each approximately more than 10,000 feet in length and weighing more than 17,000 trailing tons, where train handling and train makeup is believed to have caused, or contributed to, the incidents. In the Safety Advisory, FRA explained that the operation of these longer trains presents different, more complex, operational challenges, which can be exacerbated by the weight and makeup of trains. Consequently, FRA recommended that railroads review their operating rules and existing locomotive engineer certification programs to address operational complexities of train length, take appropriate action to prevent the loss of communications between end-of-train devices, and mitigate the impacts of long trains on blocked crossings.²

¹ 88 FR 27570.

² Id.

In the Safety Advisory, FRA also explained that in 2019, the U.S. Government Accountability Office (GAO) issued a report finding that freight-train length, particularly for Class I railroads, increased in recent years.³ GAO was only able to procure limited data from some of the Class I railroads but, one Class I railroad provided data indicating an average train length of 6,100 feet and a second Class I railroad provided data indicating an average train length of 7,500 feet.⁴ These data represent an increase in the average length of a train of about 25 percent for both railroads over a 10-year period.⁵ Each Class I railroad reportedly told GAO that they operate some longer trains, with one railroad operating a train on a regular basis that was over 12,000 feet long and another railroad operating a train on a regular basis that was over 16,000 feet long.⁶ These same railroads responded that trains over 10,000 feet long were only 1 to 2 percent of their total train-miles.⁷

³ Id. (citing GAO's May 2019 report titled RAIL SAFETY: Freight Trains Are Getting Longer, and Additional Information is Needed to Assess Their Impact, GAO-19-443 (available at https://www.gao.gov/assets/gao-19-443.pdf).

⁴ Id. at 11.

⁵ Id.

⁶ Id. at 12.

⁷ Id.

In the Safety Advisory, FRA also acknowledged that it was in the process of conducting research on the operational complexities of longer trains, including air brake system performance and resulting train dynamics.⁸ The Safety Advisory also noted that in response to a statutory requirement, FRA entered into an agreement with the National Academies of Sciences, Engineering and Medicine (NAS) to examine factors associated with the operation of freight trains longer than 7,500 feet. FRA notes, however, that any data collected from the industry in the course of these studies is likely to be limited in the same way that the GAO was only able to procure limited data for its report.⁹

⁸ https://railroads.dot.gov/sites/fra.dot.gov/files/2022-2/2023_RDT_CurrentProjects_complete_FINAL.pdf.

⁹ Information about NAS's study and its meeting agendas are available at https://www.nationalacadameies.org/our-work/impacts-of-trains-longer-than-7500-feet. The study was required by the Infrastructure Investment and Jobs Act, Public Law 117-58, 22422, 35 Stat. 751 (2021).

As a next step, FRA is initiating a new ICR to gather train length data from Class I freight railroads as the safety concerns of long trains is largely an issue particular to these railroads.¹⁰ Specifically, the proposed information collection would require Class I freight railroads to provide FRA, on a monthly basis, with data regarding the total number of trains operated, the total number of cars in those trains, as well as the total trailing tonnage in specified train length categories (e.g., less than or equal to 7,500 feet, greater than 7,500 feet). In addition, FRA proposes to collect data from the Class I freight railroads that may inform potential complexities and safety concerns associated with operating longer trains, such as the number of emergency events, the number of communication event losses, the number of broken knuckles, the number of air hose separations, the number of PTC enforcements, and the number of locomotive engineer revocations under 49 CFR part 240. The requested data will be collected monthly using an Excel-based form (Form FRA F 6180.277).

¹⁰ This ICR is limited to Class I railroads.

This data collection is necessary to allow objective findings to be made that can be used to either justify the status quo or to provide justification for further recommendations or agency action. Of note, FRA is seeking to collect data on train length on an ongoing basis, as opposed to this being a one-time study. FRA will use the collected data to establish an initial baseline for the length of trains operating within the U.S. rail system as well as to determine if train lengths are changing over time. FRA may also use the collected data in future analyses to better understand the impact of train length on safety (e.g., to determine whether trains of certain lengths are disproportionately involved in certain type of accidents/incidents or other undesired events such as loss of communications or train stalling).

FRA has incorporated several measures to minimize the respondents' paperwork burden in this proposed collection. For example, to avoid duplicating efforts, FRA is not asking railroads to provide train length information for any FRA-reportable accident or incident for which a form F6180.54 is filed. Instead, for any train involved in an accident for which a form F6180.54 is filed, FRA will review train length data collected on that form and will not seek to collect the same data proposed in this collection.

As delegated by Congress to the Secretary of the Department of Transportation, FRA has broad statutory authority to oversee matters related to rail safety.¹¹ As noted in the Safety Advisory, the greater operational complexities associated with longer trains necessitate that railroads take appropriate safety measures to manage their potentially more complex in-train forces. This proposed collection is another component of FRA's ongoing research to closely monitor and analyze the impact of train length on rail safety.

¹¹ 49 U.S.C. 20103(a).

Type of Request: Approval of a new collection of information.

Affected Public: Businesses.

Form(s): FRA F Form 6180.277.

Respondent Universe: Class I freight railroads.

Frequency of Submission: Monthly/recurring.

Reporting Burden:

¹² The average burden also includes time for reviewing the provided instructions, searching existing data sources, gathering, and maintaining necessary data, and completing and reviewing the information collection.

¹³ The dollar equivalent cost is derived from the Surface Transportation Board's 2022 Full Year Wage A&B data series for railroad workers. The wage rate of $85.93 per hour includes a 75-percent overhead charge.

| Respondent universe | Total annual responses (reports) | Average time per response ¹² (hours) | Total annual burden hours | Total cost equivalent
|  | (A) | (B) | (C) = A * B | (D) = C * wage rate ¹³
Form FRA F 6180.277 | Class I railroads | 72 | 8 | 576 | $49,496

Total Estimated Annual Responses: 72 reports.

Total Estimated Annual Burden: 576 hours.

Total Estimated Annual Burden Hour Dollar Cost Equivalent: $49,496.

FRA informs all interested parties that it may not conduct or sponsor, and a respondent is not required to respond to, a collection of information that does not display a currently valid OMB control number.

Authority: 44 U.S.C. 3501-3520.

Allison Ishihara Fultz,
Chief Counsel.

[FR Doc. 2023-15437 Filed 7-20-23; 8:45 am]

BILLING CODE 4910-06-P